DEPARTMENT OF THE TREASURY

Agency Information Collection Activities; Submission for OMB Review; Office of Foreign Assets Control Rough Diamonds Control Regulations

AGENCY: Departmental Offices, U.S. Department of the Treasury.

ACTION: Notice and request for comments.

SUMMARY: The Department of the Treasury will submit the following information collection request to the Office of Management and Budget (OMB) for review and clearance in accordance with the Paperwork Reduction Act of 1995, on or after the date of publication of this notice. The public is invited to submit comments on this request.

DATES: Comments must be received on or before December 27, 2021 to be assured of consideration.

ADDRESSES: Written comments and recommendations for the proposed information collection should be sent within 30 days of publication of this notice to www.reginfo.gov/public/do/PRAMain. Find this information collection by selecting “Currently under 30-day Review—Open for Public Comments” or by using the search function.

FOR FURTHER INFORMATION CONTACT: Copies of the submissions may be obtained from Molly Stasko by emailing PRA@treasury.gov, calling (202) 622-8922, or viewing the entire information collection request at www.reginfo.gov.

SUPPLEMENTARY INFORMATION:

Title: Rough Diamonds Control Regulations.

OMB Control Number: 1505-0198.

Type of Review: Extension of a currently approved collection.

Description: The collections of information are contained in section 592.301(a)(3) of OFAC's Rough Diamonds Control Regulations. The person identified as the ultimate consignee on the Customs Form 7501 Entry Summary, or its electronic equivalent, is required to report that person's receipt of a shipment of rough diamonds to the relevant foreign exporting authority within 15 calendar days of the date that the shipment arrived at the U.S. port of entry.

Forms: Section 592.301(a)(3) of the Rough Diamonds Control Regulations states that the report filed by the ultimate consignee need not be in any particular form and may be submitted electronically or by mail or courier.

Affected Public: Business organizations and individuals engaged in the international diamond trade.

Estimated Number of Respondents: 66.

Frequency of Response: The estimated annual frequency of responses is approximately 7 per respondent, based on average transaction volume.

Estimated Total Number of Annual Responses: 467.

Estimated Time per Response: 10 minutes.

Estimated Total Annual Burden Hours: 78.

Authority: 44 U.S.C. 3501 et seq.

Dated: November 19, 2021.
Molly Stasko,
Treasury PRA Clearance Officer.

[FR Doc. 2021-25676 Filed 11-23-21; 8:45 am]

BILLING CODE 4810-AL-P